DEPARTMENT OF HEALTH AND HUMAN SERVICES

National Toxicology Program (NTP); Center for the Evaluation of Risks to Human Reproduction (CERHR); Evaluation of the Health Effects of Low-Level Lead Exposure: Call for Information and Nomination of Scientific Experts

AGENCY: National Institute of Environmental Health Sciences (NIEHS); National Institutes of Health (NIH), HHS.

ACTION: Call for information and nomination of scientific experts.

SUMMARY: CERHR is evaluating the scientific evidence regarding the potential health effects associated with low-level lead exposure (defined as having blood lead levels < 10 μg/dL). CERHR invites the submission of information about ongoing studies or upcoming publications on the health effects of low-level lead exposure that might be considered for inclusion in the evaluation. CERHR also invites the nomination of scientific experts to potentially serve as technical advisors in conducting the evaluation or as members of an ad hoc expert panel to be convened to peer review the draft NTP Monograph on Low-level Lead (see SUPPLEMENTARY INFORMATION below). This expert panel peer review meeting is tentatively scheduled for Spring 2011. When set, the date and location of the meeting will be announced in the Federal Register and posted on the CERHR Web site (http://cerhr.niehs.nih.gov). CERHR expert panel peer review meetings are open to the public with time scheduled for oral public comment.

DATES: All information and nominations should be received by CERHR by October 7, 2010.

ADDRESSES: Information may be submitted to Dr. Andrew A. Rooney, NTP/CERHR, NIEHS, P.O. Box 12233, MD K2-04, Research Triangle Park, NC 27709 (mail), 919-316-4704 (telephone), or rooneyaa@niehs.nih.gov (e-mail). Courier address: NIEHS, 530 Davis Drive, Room K2163, Morrisville, NC 27560.

SUPPLEMENTARY INFORMATION:

Background

The main uses of lead are in manufacture of storage batteries, ammunition, nuclear and x-ray shielding devices, cable coverings, pipes, and solders. Lead may be present in paint pigments, ceramics, caulk, plastics, and electronic devices. Exposure to the general population can occur through inhalation of lead in dust and industrial emissions, intake of lead in drinking water, consumption of contaminated food, ingestion of lead dust, eating of paint flakes by children, occupational exposure, and secondary exposure in families of workers exposed occupationally to lead. Lead exposure remains a significant health concern despite policies and practices that have resulted in continued progress in reducing exposures and lowering blood lead levels in the U.S. population. CERHR selected low-level lead for evaluation because of: (1) Widespread human exposure, (2) published studies on health effects associated with low blood lead levels (< 10 μg/dL) in humans, and (3) public concern. An evaluation of low-level lead was initially discussed by the NTP Board of Scientific Counselors (BSC) on December 6, 2007 (72 FR 58854) and the approach for the evaluation was discussed at the May 10, 2010 BSC meeting (75 FR 12244). BSC meeting minutes are available at http://ntp.niehs.nih.gov/go/9741.

Request for Information

CERHR invites the public and other interested parties to submit information on low-level lead including toxicology information from completed and ongoing studies, information on planned studies, and information about current production levels, human exposure, use patterns, and environmental occurrence. This information will be considered in evaluating the potential health effects of exposure to low-level lead. Information should be submitted to CERHR (see ADDRESSES).

Request for Nomination of Scientific Experts

CERHR invites nominations of qualified scientists to serve as technical advisors and/or as members of an ad hoc expert panel to peer review the draft NTP Monograph on Low-level Lead. Scientists serving as technical advisors or on the peer review panel should represent a wide range of expertise including, but not limited to, developmental toxicology, neurotoxicology, reproductive toxicology, cardiovascular toxicology, renal toxicology, immunotoxicology, epidemiology, general toxicology, medicine, pharmacokinetics, exposure assessment, and biostatistics. Technical advisors and expert panel members should meet criteria to serve as an expert including, but not limited to, formal academic training and experience in a relevant scientific field, publications in peer-reviewed journals, and membership in relevant professional societies. Nominations should include contact information and current curriculum vitae (if possible) and be forwarded to CERHR (see ADDRESSES). Final selection of individuals to serve on the peer review panel will be made in accordance with the Federal Advisory Committee Act and Department of Health and Human Services implementing regulations. All technical advisors and panel members serve as individual experts and not as representatives of their employers or other organizations.

Background Information on CERHR

The NTP established CERHR in 1998 (63 FR 68782). CERHR is a publicly accessible resource for information about adverse reproductive and/or developmental health effects associated with exposure to environmental and/or occupational exposures. CERHR publishes monographs that assess the evidence regarding whether environmental chemicals, physical substances, or mixtures (collectively referred to as “substances”) cause adverse effects on reproduction and/or development and provide opinion on whether these substances are hazardous for humans. Information about CERHR can be obtained from its homepage (http://cerhr.niehs.nih.gov).

Dated: August 12, 2010.
John R. Bucher,
Associate Director, National Toxicology Program.

[FR Doc. 2010-20865 Filed 8-20-10; 8:45 am]

BILLING CODE 4140-01-P